DEPARTMENT OF THE INTERIOR

National Park Service

Notice of Intent to Repatriate Cultural Items: Horner Collection, Oregon State University, Corvallis, OR

AGENCY: National Park Service, Interior.

ACTION: Notice.

Notice is here given in accordance with the Native American Graves Protection and Repatriation Act (NAGPRA), 25 U.S.C. 3005, of the intent to repatriate cultural items in the possession of the Horner Collection, Oregon State University, Corvallis, OR, that meet the definition of “unassociated funerary objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

The 17 cultural items are 1 club, 1 beaded bottle, 9 utility baskets, 1 goblet-shaped basket, 1 small bag, 1 mounted arrow point, 1 porcupine quill headband, 1 string of beads, and 1 beaded sash.

The Museum of Oregon Country, Oregon Agricultural College was renamed the John B. Horner Museum of the Oregon Country in 1936, and became commonly known as the Horner Museum. The Oregon Agricultural College was renamed the Oregon State College in 1937, and became Oregon State University in 1962. The Horner Museum closed in 1995. Currently, cultural items from the Horner Museum are referred to as the Horner Collection, which is owned by, and in the possession of, Oregon State University.

Horner Collection, Oregon State University professional staff consulted with representatives of the Alturas Indian Rancheria, California; Confederated Tribes of the Coos, Lower Umpqua, and Siuslaw Indians of Oregon; Confederated Tribes of the Grand Ronde Community of Oregon; Confederated Tribes of the Siletz Reservation, Oregon; Pit River Tribe, California (includes XL Ranch, Big Bend, Likely, Lookout, Montgomery Creek and Roaring Creek Rancherias); Redding Rancheria, California; Smith River Rancheria, California; and Yurok Tribe of the Yurok Reservation, California. The Bear River Band of the Rohnerville Rancheria, California; Big Lagoon Rancheria, California; Blue Lake Rancheria, California; Cachil DeHe Band of Wintun Indians of the Colusa Indian Community of the Colusa Rancheria, California; Cedarville Rancheria, California; Cher-Ae Heights Indian Community of the Trinidad Rancheria, California; Cortina Indian Rancheria of Wintu Indians of California; Fort Bidwell Indian Community of the Fort Bidwell Reservation of California; Elk Valley Rancheria, California; Grindstone Indian Rancheria of Wintun-Wailaki Indians of California; Hoopa Valley Tribe, California; Modoc Tribe of Oklahoma; Quartz Valley Indian Community of the Quartz Valley Reservation of California; Resighini Rancheria, California; Round Valley Indian Tribes of the Round Valley Reservation, California; Rumsey Indian Rancheria of Wintun Indians of California; and Susanville Indian Rancheria, California were notified of the items in this notice, but chose not to participate in the consultation.

At an unknown date, a club was taken from an unknown site by an unknown person. In 1933, the club was brought to the Horner Museum by J.G. Crawford. The club was accessioned into the Horner Museum in 1958. Tribal representatives of the Redding Rancheria, California have identified this item as Pit River in cultural affiliation and as an item that would typically have been buried with the owner. Horner Collection has no documentation that the item was removed from a burial site, however, the donor, Mr. J. G. Crawford, has donated other items known to have come from graves and mounds to the Horner Museum and has collected from traditional Wintu territy. Based on the history of the collector and consultation evidence, officials of the Horner Collection, Oregon State University reasonably believe the cultural item to be an unassociated funerary object.

At an unknown date, a beaded bottle was obtained from an unknown person at Scott Bar, Siskiyou County, CA, by J.E. Barrett. At an unknown date, three utility baskets were taken from McCloud, CA, by J.E. Barrett. At an unknown date and from an unknown location, a utility basket made by Pit River Indians was collected by J.E. Barrett. At an unknown date, two baskets were taken from an unknown area by J.E. Barrett. Museum records identify these baskets as Pit River Indian. Mrs. J. E. Barrett loaned the beaded bottle, the four utility baskets, and two Pit River Indian baskets to the museum on February 28, 1927. On November 30, 1972, Mrs. Barrett's surviving daughter-in-law, Mrs. Edmond Barrett, donated the cultural items to the Oregon State University Museum. Tribal representatives of the Redding Rancheria, California have identified these cultural items as Pit River in cultural affiliation and as items that would typically have been buried with the owner. Horner Collection has no documentation that the items were removed from burial sites. However, Mr. J.E Barrett has donated other items known to have come from graves and mounds to the Horner Museum and to have collected from traditional Wintu territory. Based on the history of the collector and consultation, officials of the Horner Collection, Oregon State University reasonably believe the cultural items to be unassociated funerary objects. The seven unassociated funerary objects are one beaded bottle, the four utility baskets, and two Pit River Indian baskets.

In January 1946, Mrs. Nora L. Bingley loaned a mounted arrow point to the Oregon State University Museum. The Horner Collection has no provenience for this item. After 25 years, the Horner Museum considered this cultural item to be abandoned and assumed control because there was no additional contact from Mrs. Bingley. Tribal representatives of the Redding Rancheria, California have identified this item as Pit River in cultural affiliation and as an item that would typically have been buried with the owner. Based on consultation, officials of the Horner Collection, Oregon State University reasonably believe the cultural item to be an unassociated funerary object.

On June 6, 1984, Mrs. Eileen Waring Dew donated two gathering baskets removed from the Pit River Drainage area in southern Oregon and northern California. The donor indicates that the baskets were from her parents' collection and were made by Pit River Indians between 1880 and 1900. Tribal representatives of the Redding Rancheria, California have identified these items as Pit River in cultural affiliation, are patrimonial in design, and would have typically been buried with the owner. Based on the consultation evidence, officials of the Horner Collection, Oregon State University reasonably believe the cultural items are unassociated funerary objects.

On December 5, 1933, Mrs. S.C. Dyer donated a porcupine quill headband to the Oregon State University Museum. The Horner Collection has no provenience for this item. Tribal representatives of the Redding Rancheria, California have identified this headband as Pit River in cultural affiliation and as a ceremonial item. This is an item that would typically have been buried with the owner. The donor was known to collect from graves or mounds. Based on the history of the collector and consultation evidence, officials of the Horner Collection, Oregon State University reasonably believe the cultural item to be an unassociated funerary object.

On June 8, 1973, the C.B Kennedy family and Ruth Kennedy, wife of Dr. N.L. Tartar, donated two baskets, a string of beads, and a sash to the Oregon State University Museum. The Horner collection does not have a provenience for these items. Tribal representatives of the Redding Rancheria, California have identified these items as Pit River in cultural affiliation and as items that would typically have been buried with the owner. Based on the consultation evidence, officials of the Horner Collection, Oregon State University reasonably believe the cultural items are unassociated funerary objects.

A small bag with unknown provenience and an unknown donor was inventoried in the Horner Collection. Tribal representatives of the Redding Rancheria, California have identified the bag as Pit River in cultural affiliation and as an item that typically would have been buried with the owner. The curator of the Portland Art Museum also identified the bag as Pit River in cultural affiliation. Based on consultation evidence, officials of the Horner Collection, Oregon State University reasonably believe the cultural item to be an unassociated funerary object.

Wintu traditional territory included what are now known as Trinity, Shasta, Siskiyou and Tehama Counties; from Sacramento River to high divide between Trinity and Scott Rivers to Black Butte and Mt. Shasta, north of Black Fox Mountain. Yana traditional territory includes the upper Sacramento River Valley and foothills due east; south to Rock Creek and encompassed the upper Deer Creek drainage through the Battle, Cow, and Montgomery Creek drainages. Traditional territory for the eleven bands of Achumawi or Pit River Indians in northeastern California was roughly from Mount Shasta and Lassen Peak to the Warner Range. Descendants of the Wintu, Achumawi, and Yana are members of the Pit River Tribe, California and Redding Rancheria, California.

Officials of the Horner Collection, Oregon State University have determined that, pursuant to 25 U.S.C. 3001 (3)(B), the 17 cultural items described above are reasonably believed to have been placed with or near individual human remains at the time of death or later as part of the death rite or ceremony and are believed, by a preponderance of the evidence, to have been removed from a specific burial site of a Native American individual. Officials of Horner Collection, Oregon State University also have determined that, pursuant to 25 U.S.C. 3001 (2), there is a relationship of shared group identity that can be reasonably traced between the unassociated funerary objects and the Pit River Tribe, California and Redding Rancheria, California.

Representatives of any other Indian tribe that believes itself to be culturally affiliated with the unassociated funerary objects should contact Sabah Randhawa, Executive Vice President and Provost, President's Office, Oregon State University, 600 Kerr Administration Building, Corvallis, OR 97331, telephone (541) 737-8260, before September 22, 2008. Repatriation of the unassociated funerary objects to the Redding Rancheria, California may proceed after that date if no additional claimants come forward.

The Horner Collection, Oregon State University is responsible for notifying the Alturas Indian Rancheria, California; Bear River Band of the Rohnerville Rancheria, California; Big Lagoon Rancheria, California; Big Valley Band of Pomo Indians of the Big Valley Rancheria, California; Blue Lake Rancheria, California; Bridgeport Paiute Indian Colony of California; Cachil DeHe Band of Wintun Indians of the Colusa Indian Community of the Colusa Rancheria, California; Cahto Indian Tribe of the Laytonville Rancheria, California; Cedarville Rancheria, California; Cher-Ae Heights Indian Community of the Trinidad Rancheria, California; Cloverdale Rancheria of Pomo Indians of California; Confederated Tribes of the Coos, Lower Umpqua, and Siuslaw Indians of Oregon; Confederated Tribes of the Grand Ronde Community of Oregon; Confederated Tribes of the Siletz Reservation, Oregon; Cortina Indian Rancheria of Wintu Indians of California; Coyote Valley Band of Pomo Indians of California; Dry Creek Rancheria of Pomo Indians of California; Elem Indian Colony of Pomo Indians of the Sulphur Bank Rancheria, California; Elk Valley Rancheria, California; Fort Bidwell Indian Community of the Fort Bidwell Reservation of California; Grindstone Indian Rancheria of Wintun-Wailaki Indians of California; Guidiville Rancheria of California; Hoopa Valley Tribe, California; Hopland Band of Pomo Indians of the Hopland Rancheria, California; Kashia Band of Pomo Indians of Stewarts Point Rancheria, California; Klamath Indian Tribe of Oregon; Lytton Rancheria of California; Manchester Band of Pomo Indians of the Manchester-Point Arena Rancheria, California; Middletown Rancheria of Pomo Indians of California; Modoc Tribe of Oklahoma; Pinoleville Pomo Nation, California; Pit River Tribe, California; Potter Valley Tribe, California; Quartz Valley Indian Community of the Quartz Valley Reservation of California; Redding Rancheria, California; Redwood Valley Rancheria of Pomo Indians of California; Resighini Rancheria, California; Robinson Rancheria of Pomo Indians of California; Round Valley Indian Tribes of the Round Valley Reservation, California; Rumsey Indian Rancheria of Wintun Indians of California; Scotts Valley Band of Pomo Indians of California; Sherwood Valley Rancheria of Pomo Indians of California; Smith River Rancheria, California; Susanville Indian Rancheria, California; Upper Lake Band of Pomo Indians of Upper Lake Rancheria of California; Utu Utu Gwaitu Paiute Tribe of the Benton Paiute Reservation, California; and Yurok Tribe of the Yurok Reservation, California that this notice has been published.

Dated: July 14, 2008
Sherry Hutt,
Manager, National NAGPRA Program.

[FR Doc. E8-19312 Filed 8-20-08; 8:45 am]

BILLING CODE 4312-50-S